DEPARTMENT OF TRANSPORTATION

Federal Highway Administration

Intelligent Transportation Society of America; Public Meeting

AGENCY: Federal Highway Administration (FHWA), DOT.

ACTION: Notice of Public Meeting.

SUMMARY: The Intelligent Transportation Society of America (ITS AMERICA) will hold a meeting of its Coordinating Council meeting on Sunday, April 30, 2000. The following designations are made for each item: (A) Is an “action” item; (I) is an “information item;” and (D) is a “discussion” item. The agenda includes the following: (1) Call to Order and Introductions (I); (2) Statements of Antitrust Compliance and Conflict of Interest (A); (3) Approval of Previous Meeting's Minutes (A); (4) Federal Report (I); (5) President's Report (I); (6) Advice to U.S. DOT on DSRC at 5.9Hz (A); (7) Cell Phones as ITS Enablers; ITS Research Agenda Activity; Prior activities of ITS America; the Coordinating Council; and ITSA Committees (current and future); and the July Coordinating Council Workshop; (8) Committee Reports; (9) Future Coordinating Council Meeting Dates; and (10) Adjournment.

DATES: The Coordinating Council of ITS AMERICA will meet on Sunday, April 30, 2000, from 1 p.m.-5 p.m. (Eastern Standard time). Room TBA.

ADDRESSES: Sheraton Boston Hotel, 39 Dalton Street, Boston, MA. Phone: (617) 236-2000 and Fax: (617) 236-1702.

FOR FURTHER INFORMATION CONTACT: Materials associated with this meeting may be examined at the offices of ITS AMERICA, 400 Virginia Avenue, SW., Suite 800, Washington, D.C. 20024. Persons needing further information or to request to speak at this meeting should contact Marlene Vence-Crampton at ITS AMERICA by telephone at (202) 484-4847, or by Fax at (202) 484-3483. The DOT contact is Kristy Frizzell, FHWA, HOIT, Washington, D.C. 20590, (202) 366-9536. Office hours are from 8:30 a.m. to 5:00 p.m., e.t., Monday through Friday, except for legal holidays.

(23 U.S.C. 315; 49 CFR 1.48)

Issued on: Monday, March 27, 2000.
Jeffrey Paniati,
Deputy Director, ITS Joint Program Office.

[FR Doc. 00-7958 Filed 3-30-00; 8:45 am]

BILLING CODE 4910-22-P